FEDERAL DEPOSIT INSURANCE CORPORATION

Notice to All Interested Parties of Intent To Terminate Receiverships

Notice is hereby given that the Federal Deposit Insurance Corporation (FDIC or Receiver), as Receiver for the institutions listed below, intends to terminate its receivership for said institutions.

Notice of Intent To Terminate Receiverships
Fund | Receivership name | City | State | Date of appointment of receiver
10019 | FREEDOM BANK | BRADENTON | FL | 10/31/2008
10036 | FIRSTBANK FINANCIAL SERVICES | MCDONOUGH | GA | 02/06/2009
10053 | AMERICAN SOUTHERN BANK | KENNESAW | GA | 04/24/2009
10115 | PLATINUM COMMUNITY BANK | ROLLING MEADOWS | IL | 09/04/2009
10120 | IRWIN UNION BANK AND TRUST COMPANY | COLUMBUS | IN | 09/18/2009
10163 | NEW SOUTH FEDERAL SAVINGS BANK | IRONDALE | AL | 12/18/2009
10205 | DESERT HILLS BANK | PHOENIX | AZ | 03/26/2010
10217 | TAMALPAIS BANK | SAN RAFAEL | CA | 04/16/2010
10224 | WHEATLAND BANK | NAPERVILLE | IL | 04/23/2010
10234 | THE BANK OF BONIFAY | BONIFAY | FL | 05/07/2010
10251 | FIRST NATIONAL BANK | SAVANNAH | GA | 06/25/2010
10257 | IDEAL FEDERAL SAVINGS BANK | BALIMORE | MD | 07/09/2010
10296 | WAKULLA BANK | CRAWFORDVILLE | FL | 10/01/2010
10306 | FIRST ARIZONA SAVINGS, FSB | SCOTTSDALE | AZ | 10/22/2010
10317 | EARTHSTAR BANK | SOUTHAMPTON | PA | 12/10/2010
10380 | BANK OF CHOICE | GREELEY | CO | 07/22/2011
10402 | COUNTRY BANK | ALEDO | IL | 10/14/2011
10412 | COMMUNITY BANK OF ROCKMART | ROCKMART | GA | 11/10/2011
10425 | SCB BANK | SHELBYVILLE | IN | 02/10/2012
10433 | FORT LEE FEDERAL SAVINGS BANK | FORT LEE | NJ | 04/20/2012
10488 | FIRST NATIONAL BANK | EDINBURG | TX | 09/13/2013

The liquidation of the assets for each receivership has been completed. To the extent permitted by available funds and in accordance with law, the Receiver will be making a final dividend payment to proven creditors.

Based upon the foregoing, the Receiver has determined that the continued existence of the receiverships will serve no useful purpose. Consequently, notice is given that the receiverships shall be terminated, to be effective no sooner than thirty days after the date of this notice. If any person wishes to comment concerning the termination of any of the receiverships, such comment must be made in writing, identify the receivership to which the comment pertains, and be sent within thirty days of the date of this notice to: Federal Deposit Insurance Corporation, Division of Resolutions and Receiverships, Attention: Receivership Oversight Section, 600 North Pearl, Suite 700, Dallas, TX 75201.

No comments concerning the termination of the above-mentioned receiverships will be considered which are not sent within this timeframe.

(Authority: 12 U.S.C. 1819)

Federal Deposit Insurance Corporation.
Dated at Washington, DC, on November 14, 2022.
James P. Sheesley,
Assistant Executive Secretary.

[FR Doc. 2022-25072 Filed 11-16-22; 8:45 am]

BILLING CODE 6714-01-P